DEPARTMENT OF HEALTH AND HUMAN SERVICES

Centers for Disease Control and Prevention

[30 Day-14-13AAH]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call (404) 639-7570 or send an email to omb@cdc.gov. Send written comments to CDC Desk Officer, Office of Management and Budget, Washington, DC or by fax to (202) 395-5806. Written comments should be received within 30 days of this notice.

Proposed Project

CDC Work@Health Program: Phase 2 Training and Technical Assistance Evaluation—New—National Center for Chronic Disease Prevention and Health Promotion (NCCDPHP), Centers for Disease Control and Prevention (CDC).

Background and Brief Description

The Centers for Disease Control and Prevention (CDC) is establishing the Work@Health Program, a comprehensive worksite health promotion training program, to support employers' efforts to create healthy work environments and provide employees with opportunities to make healthy lifestyle choices. The Work@Health Program will train and support small, mid-size, and large employers with three primary goals: (1) Increase understanding of the training needs of employers and the best way to deliver skill-based training to them; (2) Increase employers' level of knowledge and awareness of worksite health program concepts and principles as well as tools and resources to support the design, implementation, and evaluation of effective worksite health strategies and interventions; and (3) Increase the number of science-based worksite health programs, policies, and practices in place at participating employers' worksites and increase the access and opportunities for employees to participate in them.

CDC is requesting OMB approval to initiate Phase 2 information collection. Phase 2 procedures were informed by a needs assessment and pilot test that were conducted in fall 2013 (“CDC Work@Health Program: Phase 1,” OMB No. 0920-0989, exp. 9/30/2014). In Phase 2, CDC will offer training in four models (formats): (1) A “Hands-on” instructor-led workshop model (T1), (2) a self-paced “Online” model (T2), (3) a combination or “Blended” model (T3), and (4) a “Train-the-Trainer” model (T4) designed to prepare qualified individuals to train employers through the Hands-on, Online, or Blended models.

To evaluate the training, information will be collected from approximately 540 employers and approximately 60 individuals who are interested in becoming trained/certified instructors for the Work@Health Program. Respondents will include employers/employees, trainees who participate in the four training models, and training and technical assistance instructors, coaches and subject matter experts.

CDC will use the information collected to evaluate the effectiveness of the Work@Health Program in terms of (1) increasing employer's knowledge and awareness of worksite health concepts, principles, and resources and (2) increasing the number of science-based worksite health programs, policies and practices in place at participating employers' worksites. The information will also be used to identify the best way(s) to deliver skill-based training and technical support to employers in the area of worksite health.

OMB approval is requested for two years. Participation in Work@Health is voluntary and there are no costs to participants other than their time and cost of travel to the training. The total estimated annualized burden hours are 1,601.

Estimated Annualized Burden Hours
Type of respondent | Form name | Number of respondents | Number of responses per respondent | Average burden per response (in hr)
Interested Employer | Employer Application Form | 600 | 1 | 20/60
Employers Participating in Work@Health™ | CDC Worksite Health Scorecard | 540 | 1 | 30/60
| Organiza­tional Assessment | 540 | 1 | 15/60
| Employer Follow-up Survey | 270 | 1 | 15/60
| Case Study Interviews with Senior Leadership | 3 | 1 | 1
| Case Study Interviews with Employees | 6 | 1 | 1
Trainees Participating in the Work@Health™ Program (Hands-on, Online, Blended models) | Trainee KAB Survey | 1,080 | 1 | 20/60
| Trainee Reaction Survey—Hands-On Model | 180 | 1 | 15/60
| Trainee Reaction Survey—Online Model | 180 | 1 | 15/60
| Trainee Reaction Survey—Blended Model | 180 | 1 | 15/60
| Trainee Technical Assistance Survey | 1,080 | 1 | 15/60
| Case Study Interviews with Selected Trainees | 15 | 1 | 1
| Trainee Focus Group Discussion Guide | 11 | 1 | 1.5
Interested Train-the-Trainer Participants | Train-the-Trainer Application Form | 60 | 1 | 30/60
Trainees Participating in the Work@Health™ Program (Train-the-Trainer model) | Train-the-Trainer Participant Survey | 60 | 1 | 20/60
| Trainee Reaction Survey—Train-the-Trainer Model | 30 | 1 | 15/60
Train-the-Trainer Trainee Technical Assistance Survey |  | 60 | 1 | 15/60
Trainees participating in the Work@Health™ Program Wave 2 | Wave 2 Trainee Reaction Survey | 150 | 1 | 15/60
Work@Health™ Instructors/Coaches | Instructor/Coach Group Discussion Guide | 21 | 1 | 30/60

Leroy Richardson,
Chief, Information Collection Review Office, Office of Scientific Integrity, Office of the Associate Director for Science, Office of the Director, Centers for Disease Control and Prevention.

[FR Doc. 2013-28592 Filed 11-27-13; 8:45 am]

BILLING CODE 4163-18-P